DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Central Contractor Registration (CCR); OMB Number 0704-0400.

Type of Request: Revision.

Number of Respondents: 300,000.

Responses Per Respondent: 1.

Annual Responses: 300,000.

Average Burden Per Response: 0.5 hours.

Annual Burden Hours: 150,000.

Needs and Uses: The Central Registration (CCR) provides a single point of entry for vendors that want to do business with the Department of Defense. As of June 1, 1998, both current and potential DoD vendors are required to register in the CCR in order to do business with the DoD if the contract solicitation occurred after May 31, 1998. Vendors are required to complete a one-time registration to provide basic information relevant to procurement and financial transactions. Vendors must update or renew their registration annually to maintain active status. The CCR validates the vendor's information and electronically shares the secure and encrypted data with the Defense Finance and Accounting Service (DFAS) to facilitate paperless payments through electronic funds transfer (EFT). Additionally, CCR shares the data with several government procurement and electronic business systems.

Affected Public: Business or other for-profit; not-for-profit institutions.

Frequency: On occasion and annually.

Respondent's Obligation: Required to obtain and retain benefits.

OMB Desk Officer: Mr. Lewis W. Oleinick.

Written comments and recommendations on the proposed information collection should be sent to Mr. Oleinick at the Office of Management and Budget, Desk Officer for DoD (Acquisition), Room 10236, New Executive Office Building, Washington, DC 20503.

DOD Clearance Officer Mr. Robert Cushing.

Written requests for copies of the information collection proposal should be sent to Mr. Cushing, WHS/DIOR, 1215 Jefferson Davis Highway, Suite 1204, Arlington, VA 22202-4302.

Dated: October 19, 2000.
Patricia L. Toppings,
Alternate OSD Federal Register Liaison Officer, Department of Defense.

[FR Doc. 00-27319 Filed 10-24-00; 8:45 am]

BILLING CODE 5001-10-M